DEPARTMENT OF COMMERCE

International Trade Administration

President's Export Council: Meeting of the President's Export Council

AGENCY: International Trade Administration, U.S. Department of Commerce.

ACTION: Notice of an open meeting.

SUMMARY: The President's Export Council will hold a meeting to deliberate on recommendations related to export expansion through streamlined consideration of trade legislation and through building a competitive manufacturing workforce. The final agenda will be posted in advance of the meeting on the President's Export Council Web site at http://trade.gov/pec.

DATES: December 6, 2012 at 8:00 a.m. (ET).

ADDRESSES: The President's Export Council meeting will be broadcast via live webcast on the Internet at http://whitehouse.gov/live.

FOR FURTHER INFORMATION CONTACT: Tricia Van Orden, Executive Secretary, President's Export Council, Room 4043, 1401 Constitution Avenue NW., Washington, DC 20230, telephone: 202-482-5876, email: tricia.vanorden@trade.gov.

SUPPLEMENTARY INFORMATION: Background: The President's Export Council was first established by Executive Order on December 20, 1973 to advise the President on matters relating to U.S. export trade and report to the President on its activities and on its recommendations for expanding U.S. exports. The President's Export Council was renewed most recently by Executive Order 13585 of September 30, 2011, for the two-year period ending September 30, 2013. This Committee is established in accordance with the provisions of the Federal Advisory Committee Act (FACA), as amended, 5 U.S.C. App.

Public Submissions: The public is invited to submit written statements to the President's Export Council by C.O.B. November 30, 2012 by either of the following methods:

Electronic Submissions

Submit statements electronically via the President's Export Council Web site at http://trade.gov/pec/peccomments.asp; or

Paper Submissions

Send paper statements to Tricia Van Orden, Executive Secretary, President's Export Council, Room 4043, 1401 Constitution Avenue NW., Washington, DC 20230. Statements will be posted on the President's Export Council Web site (http://trade.gov/pec/peccomments.asp) without change, including any business or personal information provided such as names, addresses, email addresses, or telephone numbers. All statements received, including attachments and other supporting materials, are part of the public record and subject to public disclosure. You should submit only information that you wish to make publicly available.

Meeting minutes: Copies of the Council's meeting minutes will be available within ninety (90) days of the meeting.

Dated: November 15, 2012.
Tricia Van Orden,
Executive Secretary, President's Export Council.

[FR Doc. 2012-28233 Filed 11-19-12; 8:45 am]

BILLING CODE 3510-DR-P